DEPARTMENT OF THE INTERIOR

Bureau of Indian Affairs

[201A2100DD/AAKC001030/A0A501010.999900 253G; OMB Control Number 1076-NEW]

Agency Information Collection Activities; Enterprise License Agreement GIS Software User Information Collection

AGENCY: Bureau of Indian Affairs, Interior.

ACTION: Notice of information collection; request for comment.

SUMMARY: In accordance with the Paperwork Reduction Act of 1995, we, the Bureau of Indian Affairs (BIA) are proposing a new information collection.

DATES: Interested persons are invited to submit comments on or before December 14, 2020.

ADDRESSES: Send your comments on this information collection request (ICR) by mail to the Office of Trust Services, Division of Land Titles and Records, Branch of Geospatial Support, 13922 Denver West Parkway Bldg. 54, Suite 300, Lakewood, CO 80401; or by email to geospatial@bia.gov. Please reference OMB Control Number 1076-NEW in the subject line of your comments.

FOR FURTHER INFORMATION CONTACT: To request additional information about this ICR, contact Peggy Deaton, Acting Branch Chief of BOGS by email at geospatial@bia.gov, or by telephone at 1-877-293-9494. You can also request additional information from Dawn Selwyn by telephone at 202-494-4688.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Bureau of Indian Affairs (BIA) Branch of Geospatial Support (BOGS) manages the Department of the Interior's (DOI) software Enterprise Licensing Agreement (ELA) with ESRI for Indian Affairs. A critical part of the ELA is for BOGS to keep accurate and up-to-date licensing counts for all ELA software users. Doing so provides BIA an accurate account of its total geographic information system (GIS) software user community, which in turn drives the overall cost of BIA's participation in this agreement. The forms in this collection are the method BIA uses to fulfill this requirement and provide accountability for the acquisition of the software.

Title of Collection: Enterprise License Agreement GIS Software User Information Collection.

OMB Control Number: 1076-NEW.

Form Name: Tribal Enterprise License Agreement Application Form, Tribal Enterprise License Agreement Order Form ArcGIS Pro, Enterprise License Agreement Order Form ArcGIS Pro, Enterprise License Agreement Order Form XTools Pro, and Enterprise License Agreement Reconciliation Form.

Type of Review: New.

Respondents/Affected Public: Tribal government employees.

Total Estimated Number of Annual Respondents: 2,201.

Total Estimated Number of Annual Responses: 2,201.

Estimated Completion Time per Response: 30 minutes.

Total Estimated Number of Annual Burden Hours: 1,101 hours.

Respondent's Obligation: Required to obtain a benefit.

Frequency of Collection: Annually.

Total Estimated Annual Nonhour Burden Cost: None.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2020-22682 Filed 10-13-20; 8:45 am]

BILLING CODE 4337-15-P